DEPARTMENT OF HEALTH AND HUMAN SERVICES

[Document Identifier OS-0945-0003]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before February 22, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041. When submitting comments or requesting information, please include the document identifier 0945-0003-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: HIPAA Privacy, Security, and Breach Notification Rules, and Supporting Regulations Contained in 45 CFR parts 160 and 164.

Type of Collection: Extension

OMB No. 0945-0003: Office for Civil Rights (OCR)-Health Information Privacy Division

Abstract: OCR requests approval to extend this existing, approved collection for three years without changing any collection requirements. No public comments were received. In 2021, OCR published a Notice of Proposed Rulemaking (NPRM) proposing modifications to the HIPAA Rules that would affect the hourly burdens associated with the HIPAA Rules. 86 FR 6446. OCR is reviewing public comment received on the NPRM about existing burdens associated with compliance with the HIPAA Rules, and on changes in burden that could result from the modifications proposed in the NPRM. On December 2, 2022, OCR published a second NPRM proposing additional modifications to the HIPAA Rules, available at 87 FR 74216. OCR will also review public comment received on the 2022 NPRM, and will update this ICR to reflect the input we receive on this notice and through the rulemaking process.

Type of respondent: HIPAA covered entities, business associates, individuals, and professional and trade associations of covered entities and business associates.

Estimated Annualized Burden Table
Section | Type of respondent | Number of respondents | Number of responses per respondent | Average burden hours per response [1] | Total burden hours
160.204 | Process for Requesting Exception Determinations (states or persons) | 1 | 1 | 16 | 16
164.308 | Risk Analysis—Documentation [2] | 1,700,000 | 1 | 10 | 17,000,000
164.308 | Information System Activity Review—Documentation | 1,700,000 | 12 | 0.75 | 15,300,000
164.308 | Security Reminders—Periodic Updates | 1,700,000 | 12 | 1 | 20,400,000
164.308 | Security Incidents (other than breaches)—Documentation | 1,700,000 | 52 | 5 | 442,000,000
164.308 | Contingency Plan—Testing and Revision | 1,700,000 | 1 | 8 | 13,600,000
164.308 | Contingency Plan—Criticality Analysis | 1,700,000 | 1 | 4 | 6,800,000
164.310 | Maintenance Records | 1,700,000 | 12 | 6 | 122,400,000
164.314 | Security Incidents—Business Associate reporting of incidents (other than breach) to Covered Entities | 1,000,000 | 12 | 20 | 240,000,000
164.316 | Documentation—Review and Update [3] | 1,700,000 | 1 | 6 | 10,200,000
164.404 | Individual Notice—Written and E-mail Notice (drafting) [4] | 58,482 | 1 | 0.5 | 29,241
164.404 | Individual Notice—Written and E-mail Notice (preparing and documenting notification) | 58,482 | 1 | 0.5 | 29,241
164.404 | Individual Notice—Written and E-mail Notice (processing and sending) [5] | 58,482 | 1,941 | 0.008 | 908,108
164.404 | Individual Notice—Substitute Notice (posting or publishing) [6] | 2,746 | 1 | 1 | 2,746
164.404 | Individual Notice—Substitute Notice (staffing toll-free number) [7] | 2,746 | 1 | 3.42 | 9,391
164.404 | Individual Notice—Substitute Notice (individuals' voluntary burden to call toll-free number for information) [8], [9] | 113,264 | 1 | 0.125 | 14,158
164.406 | Media Notice [10] | 267 | 1 | 1.25 | 334
164.408 | Notice to Secretary (notice for breaches affecting 500 or more individuals) | 267 | 1 | 1.25 | 334
164.408 | Notice to Secretary (notice for breaches affecting fewer than 500 individuals) [11] | 58,215 | 1 | 1 | 58,215
164.410 | Business Associate notice to Covered Entity—500 or more individuals affected | 20 | 1 | 50 | 1,000
164.410 | Business Associate notice to Covered Entity—Less than 500 individuals affected | 1,165 | 1 | 8 | 9,320
164.414 | 500 or More Affected Individuals (investigating and documenting breach) | 267 | 1 | 50 | 13,350
164.414 | Less than 500 Affected Individuals (investigating and documenting breach)—affecting 10-499 | 2,479 | 1 | 8 | 19,832
164.414 | Less than 500 Affected Individuals (investigating and documenting breach)—affecting <10 | 55,736 | 1 | 4 | 222,944
164.504 | Uses and Disclosures—Organizational Requirements | 700,000 | 1 | 0.083333333 | 58,333
164.508 | Uses and Disclosures for Which Individual authorization is required | 700,000 | 1 | 1 | 700,000
164.512 | Uses and Disclosures for Research Purposes [12] | 113,524 | 1 | 0.083333333 | 9,460
164.520 | Notice of Privacy Practices for Protected Health Information (health plans—periodic distribution of NPPs by paper mail) [13], [18] | 100,000,000 | 1 | 0.004166667 | 416,667
164.520 | Notice of Privacy Practices for Protected Health Information (health plans—periodic distribution of NPPs by electronic mail) [19] | 100,000,000 | 1 | 0.002783333 | 278,333
164.520 | Notice of Privacy Practices for Protected Health Information (health care providers—dissemination and acknowledgement) [14] | 613,000,000 | 1 | 0.05 | 30,650,000
164.522 | Rights to Request Privacy Protection for Protected Health Information [15] | 20,000 | 1 | 0.05 | 1,000
164.524 | Access of Individuals to Protected Health Information (disclosures) [16] | 200,000 | 1 | 0.05 | 10,000
164.526 | Amendment of Protected Health Information (requests) | 150,000 | 1 | 0.083333333 | 12,500
164.526 | Amendment of Protected Health Information (denials) | 50,000 | 1 | 0.083333333 | 4,167
164.528 | Accounting for Disclosures of Protected Health Information [17] | 5,000 | 1 | 0.05 | 250
Total |  |  | 2,070 |  | 921,158,940

Sherrette A. Funn,
Paperwork Reduction Act Reports Clearance Officer, Office of the Secretary.

[FR Doc. 2023-01196 Filed 1-20-23; 8:45 am]

BILLING CODE 4153-01-P